DEPARTMENT OF DEFENSE

Department of the Army, Corps of Engineers

Availability for the Final Environmental Impact Statement for the South River, Raritan River Basin, Hurricane and Storm Damage Reduction and Ecosystem Restoration Study, Middlesex County, NJ

AGENCY: Department of the Army, U.S. Army Corps of Engineers, DoD.

ACTION: Notice of availability.

SUMMARY: The U.S. Army Corps of Engineers (Corps), New York District, announces the availability of the final Environmental Impact Statement (EIS) for the South River, Raritan River Basin, Hurricane and Storm Damage Reduction and Ecosystem Restoration Study, pursuant to section 102(2)(C) of the National Environmental Policy Act of 1969 (NEPA). The document was prepared following a public review and comment period on the draft EIS, during which a public hearing was held in South River, New Jersey to provide stakeholders with an opportunity to provide oral and written comments.

FOR FURTHER INFORMATION CONTACT: Dr. Josephine R. Axt, Project Restoration Biologist and Team Leader, Planning Division, U.S. Army Corps of Engineers, New York District, 26 Federal Plaza, 21st floor, New York, NY, 10278-0090 at (212) 264-5119 or e-mail: Josephine.R.Axt@usace.army.mil.

SUPPLEMENTARY INFORMATION: The South River, Raritan River Basin Multipurpose Final Integrated Feasibility Study/Environmental Impact Statement (IFS/EIS) presents the results of an investigation to determine the feasibility of hurricane and storm damage reduction (HSDR) and ecosystem restoration along the South River in Middlesex County, NJ. The IFS/EIS has been conducted by the Corps in conjunction with the non-Federal project partner, the New Jersey Department of Environmental Protection (NJDEP).

The study area includes flood-prone areas within the Boroughs of South River and Sayreville, the Township of Old Bridge, and the Historic Village of Old Bridge (located within the Township of East Brunswick) in New Jersey. The downstream river reaches encompass virtually all the flood-prone structures in the watershed and the areas of greatest ecological degradation (and greatest potential for ecosystem restoration).

The costs of project implementation for the HSDR features and ecosystem restoration features will be shared by the Federal government and the non-Federal project partner (NJDEP) on a 65 percent/35 percent basis. All operations and maintenance costs will be borne by the non-Federal project partner. For the HSDR features, the project implementation costs ($61,066,800) will be shared as follows: $39,693,400 Federal and $21,373,400 non-Federal with annual O&M costs of $221,500 (non-Federal). This includes mitigation costs associated with the implementation of these features ($2,865,300 total with $1,862,400 Federal and $1,002,900 non-Federal). For the ecosystem restoration features, the project implementation costs ($53,097,700) will be shared as follows: $34,513,500 Federal and $12,811,400 non-Federal with O&M costs of $80,000 (non-Federal).

The construction and maintenance of both the HDSR features and the ecosystem restoration features will not adversely affect any Federally or state listed endangered or threatened species, areas of designated critical habitat, or essential fish habitat. By providing increased cover and opportunities for foraging and nesting, the selected plans will also improve habitat for the Federally listed threatened bald eagle thought to utilize habitats in the general vicinity, and for many of the State of New Jersey endangered and threatened species observed in the restoration area (e.g., black skimmer, northern harrier, peregrine falcon, yellow-crowned night heron, osprey, black-crowned night heron, and American bittern).

At this time, there are no known major areas of controversy regarding the study and selected plan among agencies or the public interest. One unresolved issue is an air conformity determination. The General Conformity provisions relating to the Clean Air Act require a conformity demonstration for each pollutant where the total direct and indirect emissions from the Federal action exceed the corresponding de minimis level.

Based on preliminary estimates, using emissions estimates generated from similar activities for other projects, total direct and indirect NOX emissions appear to exceed the de minimis threshold of 25 tons per year. The preliminary projected total direct and indirect VOC and CO emissions from the proposed project are estimated to be below the de minimis threshold levels. In close consultation with the United States Environmental Protection Agency and the New Jersey Department of Environmental Protection, the Corps will conduct a detailed, comprehensive quantitative analysis in the next project phase (Preconstruction, Engineering and Design, in Fall 2002) to more precisely quantify all emissions from the South River Project and to determine conformity accordingly. Upon completion of the revised emission estimates, a Draft General Conformity Determination will be prepared and undergo formal agency and public review. Results and conclusions of this process will be part of the South River Project's Record of Decision, including, as necessary, detailed analyses of mitigation alternatives, such as emission offsets, emission credits, emission reduction technologies, and operational modifications to reduce emissions.

In sum, the recommended plan will efficiently reduce hurricane and storm damages along the South River and improve the structure and function of degraded ecosystems in the study area. The non-Federal project partner, NJDEP, has indicated its support for the recommended plan and is willing to enter into a Project Cooperation Agreement with the Federal Government for the implementation of the plan.

The public review period for the final IFS/EIS is from November 1, 2002 to December 2, 2002 or 30 days after the Notice of Availability is published in the Federal Register. Comments should be directed to Dr. Axt at the address above.

The Final IFS/EIS is available for review at the following locations:

(1) Sayerville Free Public Library, 1050 Washington Road, Parlin, NJ 08859.

(2) Old Bridge Township Library, 1 Old Bridge Plaza #1, Old Bridge, NJ 08857.

(3) South River Library, 55 Appleby Avenue, South River, NJ 08882.

(4) East Brunswick Library, 2 Civic Center Driver, East Brunswick, NJ 08816.

Luz D. Ortiz,
Army Federal Register Liaison Officer.

[FR Doc. 02-27718 Filed 10-30-02; 8:45 am]

BILLING CODE 3710-06-M